Title 3—

The President

Proclamation 8012 of May 3, 2006

National Day of Prayer, 2006

By the President of the United States of America

A Proclamation

Throughout our Nation's history, our citizens have prayed and come together before God to offer Him gratitude, reflect on His will, seek His aid, and respond to His grace. On this National Day of Prayer, we thank God for His many blessings and His care of our country.

God has greatly blessed the American people, and in 1789, George Washington proclaimed: “It is the duty of all nations to acknowledge the Providence of Almighty God, to obey His will, to be grateful for His benefits, and to humbly implore His protection and favor.” Americans remain a prayerful and thankful people. We pray for the safety of our troops as they carry out dangerous missions with courage and compassion, and we remember the strength and sacrifice of their families. We pray for the good people of the Gulf Coast region as they work to rebuild their communities after the devastating hurricanes of 2005, and we thank God for the volunteers who have opened their hearts to help their neighbors in a time of need. We pray for the protection of innocent lives and for the expansion of peace and liberty throughout the world.

Through prayer, our faith is strengthened, our hearts are humbled, and our lives are transformed. May our Nation always have the humility to trust in the goodness of God's plans.

The Congress, by Public Law 100-307, as amended, has called on our Nation to reaffirm the role of prayer in our culture and to respect the freedom of religion by recognizing each year a “National Day of Prayer.”

NOW, THEREFORE, I, GEORGE W. BUSH, President of the United States of America, do hereby proclaim May 4, 2006, as a National Day of Prayer. I ask the citizens of our Nation to give thanks, each according to his or her own faith, for the freedoms and blessings we have received and for God's continued guidance and protection. I urge all Americans to join in observing this day with appropriate programs, ceremonies, and activities.

IN WITNESS WHEREOF, I have hereunto set my hand this third day of May, in the year of our Lord two thousand six, and of the Independence of the United States of America the two hundred and thirtieth.

B

[FR Doc. 06-4341

Filed 5-5-06; 8:45 am]

Billing code 3195-01-P